DEPARTMENT OF THE INTERIOR

Bureau of Land Management

[LLNML00000 L16100000.DP000/LXSS024G0000]

Notice of Availability of the Draft Tri-County Resource Management Plan and Draft Environmental Impact Statement for the Las Cruces District Office, New Mexico

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Tri-County planning area in the Las Cruces District Office and by this notice is announcing the opening of the public comment period.

DATES: To ensure that comments will be considered, the BLM must receive written comments on the Draft RMP/Draft EIS within 90 days following the date the Environmental Protection Agency publishes its notice of the filing of the Draft RMP/Draft EIS in the Federal Register. The BLM will announce future meetings or hearings and any other public participation activities at least 15 days in advance through public notices, media releases, and/or mailings.

ADDRESSES: You may submit comments related to the Tri-County Draft RMP/Draft EIS by any of the following methods:

• Web site: www.blm.gov/nm/tricountyrmp

• Email: BLM_NM_LCDO_comments@blm.gov

• Fax: 575-525-4412, Attention: Tri-County Comments

• Mail: BLM Las Cruces District Office, 1800 Marquess Street, Las Cruces, New Mexico 88005-3371, Attention: Tri-County Comments

Copies of the Tri-County Draft RMP/Draft EIS are available at the Las Cruces District Office, at the above address; the New Mexico State BLM Office at 301 Dinosaur Trail, Santa Fe, NM; the Albuquerque District BLM Office at 435 Montano Rd. NE., Albuquerque, NM; the Socorro BLM Field Office at 901 South Highway 85, Socorro, NM; the Carlsbad BLM Field Office at 620 East Greene St., Carlsbad, NM; and the Pecos District Office at 2909 West Second St., Roswell, NM.

FOR FURTHER INFORMATION CONTACT: Jennifer Montoya, Planning and Environmental Coordinator; telephone 575-525-4316; address 1800 Marquess Street, Las Cruces, New Mexico 88005-3371; email jamontoy@blm.gov. Persons who use a telecommunications device for the deaf (TDD) may call the Federal Information Relay Service (FIRS) at 1-800-877-8339 to contact the above individual during normal business hours. The service is available 24 hours a day, 7 days a week, to leave a message or question with the above individual. You will receive a reply during normal business hours.

SUPPLEMENTARY INFORMATION: In the Tri-County Draft RMP/Draft EIS, the BLM analyzes the environmental consequences of four land use plan alternatives under consideration for managing approximately 2.8 million acres of surface estate and 4.0 million acres of subsurface mineral estate. These lands, administered by the BLM Las Cruces District Office, are located within Sierra, Otero, and Doña Ana counties in southern New Mexico.

This land use plan would replace the White Sands RMP (1986) and amend the portion of the Mimbres RMP (1993) that addresses Doña Ana County. The RMP revision is needed to provide updated management decisions for a variety of uses and resources, including renewable energy siting, outdoor recreation management, special status species habitat, proposals for special designations, land tenure adjustments, and other issues. The approved Tri-County RMP will apply only to the BLM-administered public land and Federal mineral estate.

The four alternatives analyzed in detail in the Draft RMP/Draft EIS are as follows:

• Alternative A, No Action, or a continuation of existing management;

• Alternative B, which would emphasize resource conservation and protection;

• Alternative C, the BLM's Preferred Alternative, which would provide for a balance of resources uses with protections; and

• Alternative D, which would allow for a greater opportunity for resource use and development.

Among the special designations under consideration within the range of alternatives, Areas of Critical Environmental Concern (ACEC) are proposed to protect certain resource values. Pertinent information regarding these ACECs, including proposed designation acreages and resource-use limitations, is summarized below. Each alternative considers a combination of resource-use limitations for each ACEC. A more detailed summary of the proposed ACECs by alternative is available at the project Web site: www.blm.gov/nm/tricountyrmp.

• Aden Lava Flow ACEC (Currently 3,746 acres; Alternative B would maintain this acreage; Alternatives C and D would remove the ACEC designation and the area would be managed as part of the Aden Lava Flow WSA.) This ACEC would be managed for biological, scenic, geological, and research resource values. Proposed resource-use limitations include: Exclusion from new rights-of-way; closure to fluid mineral leasing and mineral material sales; using chemical brush control to meet plant community objectives; management as Visual Resource Management (VRM) Class II; designation of a parking area and trail; allowing the research and interpretation of geological objectives; and limitation of vehicle use to designated roads and trails, or closing to vehicle use.

• Alamo Mountain ACEC (Currently 2,528 acres; Alternatives B and C would incorporate the existing ACEC into the Otero Mesa Grassland Wildlife ACEC; Alternative D would maintain the ACEC designation at the current acreage.) This ACEC would be managed for scenic, cultural, and ecological resource values. Proposed resource-use limitations include: Exclusion or avoidance of new rights-of-way; closure to fluid mineral leasing and mineral material sales; closure to vegetation sales; management as VRM Class I or II; limitation of vehicle use to designated routes; and closing to vehicle use.

• Alkali Lakes ACEC (Currently 6,348 acres; Alternatives B, C, and D would maintain this acreage.) This ACEC would be managed for special status plant species resource values. Proposed resource-use limitations include: Exclusion or avoidance of new rights-of-way; closure to fluid mineral leasing and mineral material sales; closure to vegetation sales; management as VRM Class III or IV; and limitation of vehicle use to designated routes.

• Broad Canyon ACEC (Not currently designated as an ACEC; Alternative B would designate 4,721 acres as an ACEC; the area would not be managed as an ACEC under Alternatives C and D.) The ACEC would be managed for scenic, biological, and cultural resource values. Proposed resource-use limitations include: Exclusion of new rights-of-way; closure to mineral material disposal and geothermal leasing; management as VRM Class II; and limitation of vehicle use to designated routes.

• Brokeoff Mountains ACEC (Not currently designated as an ACEC; Alternative B would designate 61,224 acres as an ACEC; Alternative C would designate 3,971 acres as an ACEC; and Alternative D would not manage the area as an ACEC.) The ACEC would be managed for ecological and cultural resource values. Proposed resource-use limitations include: Exclusion of new rights-of-way; closure to mineral material sales and geothermal leasing; management as VRM Class II; and limitation of vehicle use to designated routes.

• Caballo Mountains ACEC (Not currently an ACEC; Alternative B would designate 17,268 acres as an ACEC; the area would not be managed as an ACEC under Alternatives C and D.) The ACEC would be managed for scenic resource values. Proposed resource-use limitations include: Exclusion of new rights-of-way; closure to mineral material sales and geothermal leasing; management as VRM Class I except for the existing communications site; and limitation of vehicle use to designated routes.

• Cornucopia ACEC (Formerly Southern Sacramento Mountains; not currently an ACEC; Alternative B would designate 16,037 acres as an ACEC; the area would not be managed as an ACEC under Alternatives C and D.) The ACEC would be managed for cultural resource values. Proposed resource-use limitations include: Exclusion of new rights-of-way; closure to mineral material sales and geothermal leasing; management as VRM Class II; and limitation of vehicle use to designated routes.

• Cornudas Mountains ACEC (Currently 852 acres; Alternatives B and C would manage this area as part of the Otero Mesa Grassland Wildlife ACEC; Alternative D would maintain the existing ACEC designation with the current acreage.) This ACEC would be managed for scenic and cultural resource values. Proposed resource-use limitations include: Avoidance or exclusion of new rights-of-way; closure to fluid mineral leasing and mineral material sales; management as VRM Class I or II; and limitation of vehicle travel to designated routes.

• Doña Ana Mountains ACEC (Currently 1,427 acres; Alternatives B and C would expand the ACEC to 3,181 acres; Alternative D would maintain the current acreage.) The ACEC would be managed for biological, scenic, and cultural resource values. Proposed resource-use limitations include: Exclusion from new rights-of-way; closure to fluid mineral leasing and mineral material sales; management as VRM Class I; and limitation of vehicle use to designated routes.

• East Potrillo Mountains ACEC (Not currently an ACEC; Alternative B would manage 11,460 acres as an ACEC; the area would not be managed as an ACEC under Alternatives C and D.) The ACEC would be managed for scenic resource values. Proposed resource-use limitations include: Exclusion of new rights-of-way; closure to mineral material sales and geothermal leasing; management as VRM Class I; and limitation of vehicle use to designated routes.

• Jarilla Mountains ACEC (Not currently an ACEC; Alternative B would designate 6,219 acres as an ACEC; Alternatives C and D would not manage this area as an ACEC.) The ACEC would be managed for special status plant species and ecological resource values. Proposed resource-use limitations include: Avoidance of new rights-of-way; closure to mineral material sales and geothermal leasing; management as VRM Class III; and maintaining vehicle closure on 700 acres while limiting vehicle use to designated routes in the remainder of the ACEC.

• Los Tules ACEC (Currently 23 acres; Alternatives B, C, and D would maintain this acreage.) This ACEC would be managed for cultural resource values. Proposed resource-use limitations include: Exclusion from new rights-of-way; closure to mineral material sales; allowing fluid mineral leasing with a No Surface Occupancy (NSO) stipulation; management as VRM Class II or III; closure to vehicle use; and consideration of conveyance to New Mexico Parks Division under the Recreation and Public Purposes Act.

• Mud Mountain ACEC (Not currently an ACEC; Alternatives B and C would designate 2,579 acres as an ACEC; the area would not be managed as an ACEC under Alternative D.) The ACEC would be managed for special status plant species and ecological resource values. Proposed resource-use limitations include: Exclusion of new rights-of-way; closure to mineral material sales and geothermal leasing; and limitation of vehicle use to designated routes.

• Nutt Mountain ACEC (Not currently an ACEC; Alternative C would designate 756 acres as an ACEC; the area would not be managed as an ACEC under Alternatives B and D.) The ACEC would be managed for ecological and scenic resource values. Proposed resource-use limitations include: Exclusion of new rights-of-way; closure to mineral material sales and geothermal leasing; management as VRM Class I; and limitation of vehicle use to designated routes.

• Organ/Franklin Mountains ACEC (Currently 58,417 acres; Alternatives B, C, and D would maintain this acreage; 19,667 acres are within Wilderness Study Areas (WSAs).) This ACEC would be managed for biological, scenic, cultural, riparian, and special status species (plant and animal) resource values. Proposed resource-use limitations include: Exclusion from new rights-of-way except within existing utility corridors; closure to fluid mineral leasing and mineral material sales; management as VRM Class I, III, and IV; closure to all but authorized vehicle use; and closure of vehicle routes in WSAs.

• Otero Mesa Grassland ACEC (Not currently an ACEC; Alternative B C would designate 271,262 acres as an ACEC; Alternative C would designate 198,511 acres as an ACEC. The area would not be managed as an ACEC under Alternative D.) The ACEC would be managed for ecological and wildlife habitat resource values. Proposed resource-use limitations include: Exclusion and avoidance of new rights-of-way; closure to mineral material sales and geothermal leasing; closure to vegetation sales; management as VRM Class I and II; and limitation of vehicle use to designated routes.

• Percha Creek ACEC (Not currently an ACEC; Alternatives B and C would designate 870 acres as an ACEC; Alternative D would not manage this area as an ACEC.) The ACEC would be managed for riparian, ecological, and special status species resource values. Proposed resource-use limitations include: Exclusion of new rights-of-way; closure to mineral material sales and geothermal leasing; closure to livestock grazing; and close to vehicle use.

• Picacho Peak ACEC (Not currently an ACEC; Alternatives B and C would designate 950 acres as an ACEC; the area would not be managed as an ACEC under Alternative D.) The ACEC would be managed for scenic and cultural resource values. Proposed resource-use limitations include: Exclusion from new rights-of-way; closure to mineral material sales and geothermal leasing; management as VRM Class I; and limitation of vehicle use to designated routes.

• Pup Canyon ACEC (Not currently an ACEC; Alternatives B and C would designate 3,677 acres as an ACEC; the area would not be managed as an ACEC under Alternative D.) The ACEC would be managed for special status plant species and ecological resource values. Proposed resource-use limitations include: Incorporation into and management as part of the Brokeoff Mountains ACEC; exclusion of new rights-of-way; management as VRM Class II; and limitation of vehicle use to designated routes.

• Rincon ACEC (Currently 856 acres; Alternatives B, C, and D would maintain the current acreage.) This ACEC would be managed for cultural resource values. Proposed resource-use limitations include: Exclusion or avoidance of new rights-of-way; exclusion of solar energy projects; exclusion of wind and geothermal energy projects from aplomado falcon habitat and avoidance of wind and geothermal development in the remainder of the ACEC; allowing fluid mineral leasing with NSO; closure to new mineral material sales; management as VRM Class II; and limitation of vehicle use to designated routes.

• Robledo Mountains ACEC (Currently 7,077 acres; Alternative B would increase to 19,000 acres, Alternatives C and D would maintain the 7,077 acreage.) This ACEC would be managed for biological, scenic, and cultural resource values. Proposed resource-use limitations include: Exclusion or avoidance of new rights-of-way; closure to fluid mineral leasing and mineral material sales; management as VRM Class I or II; and limitation of vehicle use to designated routes.

• Sacramento Escarpment ACEC (Currently 4,474 acres; Alternatives B and C would maintain this acreage; Alternative D would reduce the ACEC to 3,374 acres.) This ACEC would be managed for scenic resource values. Proposed resource-use limitations include: Exclusion of new rights-of-way; closure to fluid mineral leasing and mineral material sales; management as VRM Class I and II; and limitation of vehicle use to designated routes.

• Sacramento Mountains (North and South) ACEC (Not currently an ACEC; Alternatives B and C would designate 2,381 acres as an ACEC; the area would not be managed as an ACEC under Alternative D.) The ACEC would be managed for special status plant species and ecological resource values. Proposed resource-use limitations include: Exclusion or avoidance of new rights-of-way; closure to mineral material sales and geothermal leasing; manage as VRM Class II; limitation of vehicle use to designated routes; and closure to vehicle use.

• San Diego Mountain ACEC (Currently 623 acres; Alternatives B, C, and D would maintain this acreage.) This ACEC would be managed for cultural resource values. Proposed resource-use limitations include: Exclusion or avoidance of new rights-of-way; closure to fluid minerals and mineral material sales; management as VRM Class II; and limitation of vehicle use to designated routes.

• Six Shooter Canyon ACEC (Not currently an ACEC; Alternatives B and C would designate 1,060 acres as an ACEC; the area would not be managed as an ACEC under Alternative D.) The ACEC would be managed for special status plant species and ecological resource values. Proposed resource-use limitations include: Exclusion of new rights-of-ways; closure to mineral material sales and geothermal leasing; management as VRM Class II; and closure to vehicle use.

• Southern Caballo Mountains ACEC (Not currently an ACEC; Alternative B would designate 24,117 acres as an ACEC; the area would not be managed as an ACEC under Alternatives C and D.) The ACEC would be managed for cultural resource values. Proposed resource-use limitations include: Exclusion of new rights-of-way; closure to geothermal leasing; management as VRM Class II; and limitation of vehicle use to designated routes.

• Three Rivers Petroglyph Site ACEC (Currently 1,043 acres; Alternatives B, C, and D would maintain this acreage.) This ACEC would be managed for cultural resource values. Proposed resource-use limitations include: Closure to fluid mineral leasing and mineral material sales; closure to vegetation sales; management as VRM Class II; and limitation of vehicle use to designated routes.

• Tortugas Mountain ACEC (Not currently an ACEC; Alternative B would designate 1,936 acres as an ACEC; the area would not be managed as an ACEC under Alternatives C and D.) The ACEC would be managed for soils and geomorphology resource values. Proposed resource-use limitations include: Exclusion of new rights-of-way; closure to geothermal leasing; management as VRM Class III; allowing traditional uses, religious and other, of the mountain; and limitation of vehicle use to designated routes.

• Tularosa Creek ACEC (Not currently an ACEC; Alternatives B and C would designate 236 acres as an ACEC; the area would not be managed as an ACEC under Alternative D.) The ACEC would be managed for riparian and aquatic resource values. Proposed resource-use limitations include: Exclusion of new rights-of-way; closing to mineral material sales and geothermal leasing; closure to livestock grazing; management as VRM Class II; and limitation of vehicle use to designated routes.

• Wind Mountain ACEC (Currently 2,300 acres; Alternatives B and C would manage the area as part of the Otero Mesa Grassland Wildlife ACEC; Alternative D would maintain the current acreage.) This ACEC would be managed for cultural and scenic resource values. Proposed resource-use limitations include: Exclusion or avoidance of new rights-of-way; closure to fluid mineral leasing and mineral material sales; closure to vegetation sales; management as VRM Class I or II; and limitation of vehicle use to designated routes.

The land-use planning process was initiated on January 28, 2005, through a Notice of Intent published in the Federal Register (70 FR 4146), notifying the public of a formal scoping period and soliciting public participation. Four public scoping meetings were held in March 2005 in Alamogordo, Anthony, Las Cruces, and Truth or Consequences, NM. In April 2005, the Economic Profile System workshops were held in Alamogordo and Truth or Consequences to help the BLM and potential cooperating agencies gain insight on the economic makeup of the Planning Area. Three open-house scoping meetings were held in December 2006 in Las Cruces, Alamogordo, and Truth or Consequences, NM. Four meetings with grazing allottees were held in January 2007 to discuss the RMP process and potential impacts of ACEC management on grazing operations. Between 2005 and 2010, four Planning Bulletins were published to update the community on the RMP progress. Meetings and outreach to cooperating agencies were held throughout the planning process, as were meetings with various stakeholder groups. At the November 2011 meeting of the Las Cruces District Resource Advisory Council, the Tri-County RMP status was discussed.

Las Cruces District Office managers and staff had discussions about the Tri-County Draft RMP/Draft EIS with 11 Native American tribal groups, including the Mescalero Apache Tribe, the Fort Sill Apache Tribe, the White Mountain Apache Tribe, the Ysleta del Sur Pueblo, the Isleta Pueblo, the Hopi Tribe, the Navajo Nation, the Kiowa Tribe, the Comanche Indian Tribe, Tesuque Pueblo, and the Piro-Manso-Tiwa Indian Tribe. During the scoping period ending on March 28, 2005, the public provided the Las Cruces District Office with input on relevant issues to consider in the planning process. Based on these issues, conflicts, information, and the BLM's goals and objectives, the Las Cruces District Office Interdisciplinary RMP Team and managers formulated four alternatives for consideration and analysis in the Draft RMP/Draft EIS.

Following the close of the public review and comment period, any substantive public comments will be used to revise the Draft RMP/Draft EIS in preparation for its release to the public as the Proposed Resource Management Plan and Final Environmental Impact Statement (Proposed RMP/Final EIS). The BLM will respond to each substantive comment received during the public review and comment period by making appropriate revisions to the document, or explaining why the comment did not warrant a change. Notice of the availability of the Proposed RMP/Final EIS will be posted in the Federal Register.

Please note that public comments and information submitted—including names, street addresses, and email addresses of persons who submit comments—will be available for public review and disclosure at the BLM Las Cruces District Office, 1800 Marquess St., Las Cruces, New Mexico during regular business hours (7:45 a.m. to 4:30 p.m.), Monday through Friday (except holidays).

Before including your address, phone number, email address, or other personal identifying information in your comment, you should be aware that your entire comment—including your personal identifying information—may be made publicly available at any time. While you can ask us in your comment to withhold your personal identifying information from public review, we cannot guarantee that we will be able to do so.

Authority: 40 CFR 1506.6; 40 CFR 1506.10; 43 CFR 1610.2.

Jesse J. Juen,
New Mexico State Director.

[FR Doc. 2013-08534 Filed 4-11-13; 8:45 am]

BILLING CODE 4310-VC-P